DEPARTMENT OF TRANSPORTATION

Surface Transportation Board

[STB Finance Docket No. 34166]

R.J. Corman Railroad Company/Bardstown Line-Lease and Operation Exemption-Line of R.J. Corman Equipment Company, LLC

R.J. Corman Railroad Company/Bardstown Line (RJCR), a Class III carrier, has filed a verified notice of exemption under 49 CFR 1150.41 to lease and operate a rail line known as the Dawkins Subdivision from R.J. Corman Equipment Company, LLC (RJCE) between approximately milepost 0.05 at or near Dawkins, KY, and approximately milepost 36.13 at or near Evanston, KY, in Johnson, Magoffing and Breathitt Counties, KY, a total distance of approximately 36.08 miles. RJCR certifies that the projected revenues will not result in the creation of Class I or Class II rail carrier.

The transaction was scheduled to be consummated on or after January 24, 2002, the effective date of the exemption.

This transaction is related to two simultaneously filed notices of exemption: STB Finance Docket No. 34167, Richard J. Corman-Continuance in Control Exemption—R.J. Corman Equipment Company, LLC, wherein Richard J. Corman seeks continue in control of RJCE upon RJCE's becoming a Class III rail carrier; and STB Finance Docket No. 34165, R.J. Corman Equipment Company, LLC—Acquisition Exemption—Line of CSX Transportation, Inc., wherein RJCE seeks to acquire the Dawkins Subdivision from CSX Transportation, Inc.

If this notice contains false or misleading information, the exemption is void ab initio. Petitions to revoke the exemption under 49 U.S.C. 10502(d) may be filed at any time. The filing of a petition to revoke will not automatically stay the transaction.

An original and 10 copies of all pleadings, referring to STB Finance Docket No. 34166, must be filed with the Surface Transportation Board, Office of the Secretary, Case Control Unit, 1925 K Street, NW, Washington, DC 20423-0001. In addition, one copy of each pleading must be served on Kevin M. Sheys, Kirkpatrick & Lockhart LLP, 1800 Massachusetts Avenue—2nd Floor, Washington, DC 20036.

Board decisions and notices are available on our website at “WWW.STB.DOT.GOV.”

Decided: February 8, 2002.
By the Board, David M. Konschnik, Director, Office of Proceedings.
Vernon A. Williams,
Secretary.

[FR Doc. 02-3671 Filed 2-14-02; 8:45 am]

BILLING CODE 4915-00-P